FEDERAL COMMUNICATIONS COMMISSION

47 CFR Part 54

[WC Docket No. 10-90; FCC 11-161, FCC 12-52, FCC 12-137, DA 13-332]

Connect America Fund

AGENCY: Federal Communications Commission.

ACTION: Final rule; announcement of effective date.

SUMMARY: In this document, the Commission announces that the Office of Management and Budget (OMB) has approved, for a period of three years, certain information collection associated with the Commission's Universal Service—Connect America Fund, Report and Order and Further Notice of Proposed Rulemaking, 76 FR 73830, November 29, 2011, Third Order on Reconsideration, 77 FR 30904, May 24, 2012, Fifth Order on Reconsideration, 78 FR 3837, January 17, 2013, and Order, 78 FR 22198, April 15, 2013 (Orders). The Commission submitted revised information collection requirements for review and approval by OMB, as required by the Paperwork Reduction Act (PRA) of 1995 (44 U.S.C. 3501-3520), 78 FR 34096, June 6, 2013, which were approved by the OMB on July 22, 2013. This notice is consistent with the Orders, which stated that the Commission would publish a document in the Federal Register announcing the effective date of those rules.

DATES: 47 CFR 54.313(a)(7) through (a)(10), and (c) through (g) published at 76 FR 73830, November 29, 2011, 47 CFR 54.313(h) published at 77 FR 30904, May 24, 2012 and 47 CFR 54.313(f)(2)(i) through (iii) published at 78 FR 3837, January 17, 2013, and 47 CFR 54.313(a) published at 78 FR 22198, April 15, 2013, are effective August 5, 2013.

FOR FURTHER INFORMATION CONTACT: Alexander Minard, Wireline Competition Bureau at (202) 418-7400 or TTY (202) 418-0484.

SUPPLEMENTARY INFORMATION: This document announces that, on July 22, 2013, OMB approved, for a period of three years, certain information collection requirements contained in the Commission's Orders, FCC 11-161, published at 76 FR 73830, November 29, 2011, FCC 12-52, published at 77 FR 30904, May 24, 2012 and FCC 12-137, published at 78 FR 3837, January 17, 2013, and DA 13-332, published at 78 FR 22198, April 15, 2013. The OMB Control Number is 3060-0986. The Commission publishes this notice as an announcement of the effective date of 47 CFR 54.313(a)(7)-(a)(10), and (c)-(h). If you have any comments on the burden estimates listed below, or how the Commission can improve the collections and reduce any burdens caused thereby, please contact Judith B. Herman, Federal Communications Commission, Room 1-C823, 445 12th Street SW., Washington, DC 20554. Please include the OMB Control Number, 3060-0986, in your correspondence. The Commission will also accept your comments via email. Please send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on July 22, 2013, for the information collection requirements contained in the Commission's rules at 47 CFR 54.313(a) through (h).

Under 5 CFR 1320, an agency may not conduct or sponsor a collection of information unless it displays a current, valid OMB Control Number.

No person shall be subject to any penalty for failing to comply with a collection of information subject to the Paperwork Reduction Act that does not display a current, valid OMB Control Number. The OMB Control Number is 3060-0986.

The foregoing notice is required by the Paperwork Reduction Act of 1995, Public Law 104-13, October 1, 1995, and 44 U.S.C. 3507.

The total annual reporting burdens and costs for the respondents are as follows:

OMB Control Number: 3060-0986.

OMB Approval Date: July 22, 2013.

OMB Expiration Date: July 31, 2016.

Title: Competitive Carrier Line Count Report and Self-Certification as a Rural Carrier, WC Docket No. 10-90.

Form No.: FCC Forms 525 and 481.

Respondents: Business or other for-profit entities, not-for-profit institutions and state, local or tribal government.

Number of Respondents and Responses: 8,690 respondents; 8,804 responses.

Estimated Time per Response: .5 hours to 100 hours.

Frequency of Response: Annual, on occasion and quarterly reporting requirements, recordkeeping requirement and third party disclosure requirement.

Obligation to Respond: Required to obtain or retain benefits. Statutory authority for this information collection is contained in 47 U.S.C. 151, 154(i) and (j), 205, 221(c), 254, 303(r), 403, 410 and 1302 of the Communications Act of 1934, as amended.

Total Annual Burden: 272,017 hours.

Total Annual Cost: N/A.

Nature and Extent of Confidentiality: Parties may submit confidential information in relation to sub-item o in item 12 of the supporting statement pursuant to a protective order. We note that USAC must preserve the confidentiality of all data obtained from respondents and contributors to the universal service program; must not use the data except for the purposes of administering the universal service support program; and must not disclose data in company-specific form unless directed to do so by the Commission.

Needs and Uses: The Commission has received OMB approval for a three year period to the revisions of this information collection. There are no changes to the FCC Form 525, which is part of this information collection. New FCC Form 481 is being added to this information collection. FCC Form 481 will collect information described in the supporting statement from sub-items h-p of item 12. FCC Form 481 will also collect information, already approved under OMB Control Number 3060-0819, that ETCs receiving low-income universal service support must include in their annual reports. The Commission developed FCC Form 481 in order to reduce the burden on ETCs subject to both high-cost and low-income reporting rules and so the information will be collected in a uniform format. For complete details regarding this revision, please see the 60 day notice that was published in the Federal Register on February 25, 2013, 78 FR 12750.

Federal Communications Commission.
Marlene H. Dortch,
Secretary.

[FR Doc. 2013-18711 Filed 8-2-13; 8:45 am]

BILLING CODE 6712-01-P